DEPARTMENT OF TRANSPORTATION

Federal Aviation Administration

14 CFR Part 71

[Docket No. FAA-2011-0881; Airspace Docket No. 11-AAL-18]

Amendment of Class E Airspace; Kwigillingok, AK

AGENCY: Federal Aviation Administration (FAA), DOT.

ACTION: Final rule, correction.

SUMMARY: This action corrects a final rule published in the Federal Register of January 3, 2012 that amends Class E airspace at Kwigillingok Airport, Kwigillingok, AK. In that rule, errors were made in the geographic coordinates and legal description for Kwigillingok Airport. This action corrects these errors.

DATES: Effective Date: 0901 UTC, April 5, 2012. The Director of the Federal Register approves this incorporation by reference action under 1 CFR Part 51, subject to the annual revision of FAA Order 7400.9 and publication of conforming amendments.

FOR FURTHER INFORMATION CONTACT: Jeanette Roller, Federal Aviation Administration, Operations Support Group, Western Service Center, 1601 Lind Avenue SW., Renton, WA 98057; telephone (425) 203-4541.

SUPPLEMENTARY INFORMATION:

History

On January 3, 2012, a final rule for Airspace Docket No. 11-AAL-18, FAA Docket No. FAA-2011-0881 was published in the Federal Register (77 FR 6), amending controlled airspace at Kwigillingok Airport, AK. Subsequent to publication, an error was found in the latitude coordinate for Kwigillingok Airport, and the radius referencing Class E 700 foot airspace. This action corrects these errors.

Correction to Final Rule

Accordingly, pursuant to the authority delegated to me, the legal description as published in the Federal Register on January 3, 2012 (77 FR 6), (FR Doc. 2011-33566), is corrected as follows:

§ 71.1 [Amended]

AAL AK E5 Kwigillingok, AK [Corrected]

On page 7, column 2, and line 50 of the legal description, remove “Lat. 59°32′35″ N.,” and insert “Lat. 59°52′35″ N.,” and on line 52 remove “within a 6.5-mile radius * * *” and insert “within a 6.6-mile radius * * *”.

Issued in Seattle, Washington, on January 27, 2012.
Robert Henry,
Acting Manager, Operations Support Group, Western Service Center.

[FR Doc. 2012-2764 Filed 2-7-12; 8:45 am]

BILLING CODE 4910-13-P